DEPARTMENT OF ENERGY

Transfer of Land Tracts Located at Los Alamos National Laboratory, New Mexico

AGENCY: National Nuclear Security Administration, U.S. Department of Energy.

ACTION: Amended Record of Decision.

SUMMARY: The U.S. Department of Energy's National Nuclear Security Administration (DOE/NNSA) is issuing this Amended Record of Decision (ROD) for the Environmental Impact Statement for the Conveyance and Transfer of Certain Land Tracts Administered by the Department of Energy and Located at Los Alamos National Laboratory, Los Alamos and Santa Fe Counties, New Mexico, DOE/EIS-0293 (Conveyance and Transfer EIS) to address the remaining acreage of Los Alamos National Laboratory's (LANL's) Technical Area 21 (TA-21) Tract (about 245 acres) and the remaining acreage of the Airport Tract (about 55 acres). DOE/NNSA has determined that it is no longer necessary to retain these lands and will make them available for conveyance and transfer.

FOR FURTHER INFORMATION CONTACT: For copies of the Conveyance and Transfer EIS, the 2000 Record of Decision (ROD), and/or the two previous amended RODs (discussed in later paragraphs), or to receive further information regarding the Los Alamos Site Office's National Environmental Policy Act (NEPA) compliance program, contact: Mr. George J. Rael, Assistant Manager Environmental Operations, NEPA Compliance Officer, U.S. Department of Energy, National Nuclear Security Administration, Los Alamos Site Office, 3747 West Jemez Road, Los Alamos, NM 87544. Mr. Rael may be contacted by telephone at (505) 665-5658. For information on the DOE NEPA process, contact: Ms. Carol M. Borgstrom, Director, Office of NEPA Policy and Compliance (GC-54), U.S. Department of Energy, 1000 Independence Avenue SW., Washington, DC 20585, (202) 586-4600, or leave a message at (800) 472-2756.

Additional information regarding DOE NEPA activities and access to many DOE NEPA documents are available on the Internet through the DOE NEPA Web site at: http://www.gc.energy.gov/nepa/.

SUPPLEMENTARY INFORMATION:

Background

LANL is a multidisciplinary, multipurpose research institution in north-central New Mexico, about 60 miles (97 kilometers) north-northeast of Albuquerque, and about 25 miles (40 kilometers) northwest of Santa Fe. The small communities of Los Alamos townsite, White Rock, Pajarito Acres, the Royal Crest Mobile Home Park, and San Ildefonso Pueblo are located in the immediate vicinity of LANL. LANL occupies an area of approximately 23,040 acres (9324 hectares), or approximately 36 square miles (93 square kilometers).

Legal Requirements for Action

On November 26, 1997, Congress passed Public Law 105-119, the Departments of Commerce, Justice, and State, the Judiciary, and Related Agencies Appropriations Act, Fiscal Year 1998 (“the Act”). Section 632 of the Act (42 U.S.C. 2391) directs the Secretary of Energy (the Secretary) to convey to the Incorporated County of Los Alamos, New Mexico, or to the designee of the County, and transfer to the Department of the Interior, in trust for the San Ildefonso Pueblo, parcels of land under the jurisdictional administrative control of the Secretary at or in the vicinity of LANL. Such parcels, or tracts, of land must meet suitability criteria established by the Act. The purpose for these conveyances and transfers is to fulfill the obligations of the United States with respect to Los Alamos, New Mexico, under sections 91 and 94 of the Atomic Energy Community Act of 1955 (AECA) (42 U.S.C. 2391, 2394). Upon the completion of the conveyance or transfer, the Secretary of Energy shall make no further financial assistance payments with respect to LANL under the AECA.

The Act set forth the criteria, processes, and dates by which tracts would be selected, titles to the tracts reviewed, environmental issues evaluated, and decisions made as to the allocation of the tracts between the two recipients. DOE's responsibilities under the Act include identifying potentially suitable tracts of land according to criteria set forth in the law (Land Transfer Report, April 1998); conducting a title search on each tract of land (Title Report, September 1998); identifying any environmental restoration and remediation that would be needed for each tract of land (Environmental Restoration Report, August 1999); conducting National Environmental Policy Act of 1969 (NEPA) review of the proposed conveyance or transfer of the land tracts (the Conveyance and Transfer EIS, October 1999, distributed in January 2000); reporting to Congress on the results of the Environmental Restoration Report review and the final Conveyance and Transfer EIS (Combined Data Report, January 2000); and preparing a plan for conveying or transferring land according to the allocation agreement of parcels for Congress (Conveyance and Transfer Plan, April 2000). Additionally, the disposition of each tract, or portion of a tract, would be subject to DOE's completion of any necessary environmental restoration or remediation required.

Previous Decisions on the Conveyance and Transfer Actions

In the 2000 ROD for the Conveyance and Transfer EIS (65 FR 14952, March 20, 2000), DOE's decision, consistent with the Preferred Alternative analyzed in the Conveyance and Transfer EIS, was to convey or transfer seven tracts in whole and three tracts (the Airport, TA-21, and White Rock Y Tracts) in part by November 26, 2007, the original transfer deadline established in the Act. Portions of the three partial tracts were initially withheld by DOE because of potential national security mission needs for retaining security, health, and safety buffer zones surrounding operational areas. For this reason, DOE's decision at that time was to convey or transfer 110 acres of the Airport Tract, 20 acres of the TA-21 Tract, and 125 acres of the White Rock Y Tract. DOE stated in the ROD that it would make every effort to minimize the portions of the tracts it retains and only retain essential areas and convey or transfer the remainder of the tracts before the transfer deadline.

On June 26, 2002, NNSA issued an Amended ROD (67 FR 45495; July 9, 2002) that announced NNSA's determination that an 8-acre portion of the Airport Tract at its western end that had been retained to serve as a health and safety buffer zone was no longer required for that purpose and could be conveyed. NNSA additionally identified two portions of the White Rock Y Tract that were unlikely to be needed to serve as health and safety buffers and could be conveyed as well. These portions contain stretches of public roadways along State Road 502 and State Road 4 and total about 74 acres.

On July 28, 2005, NNSA issued another Amended ROD (70 FR 48378; August 17, 2005) announcing NNSA's decision to convey an additional 32.3-acre portion of the Airport Tract based on its determination that this portion of the tract located along the south side of State Road 502 was no longer required to serve as a health and safety buffer area. This decision also stated that the remainder of the Airport Tract, about 55 acres, would be retained until tritium operations ceased within the previously-retained approximately 245 acres of the TA-21 Tract.

Rationale Supporting the Conveyance and Transfer of Portions of Retained Tracts

The original 2000 ROD for the Conveyance and Transfer EIS stated with regard to the three tracts that were conveyed in part, that DOE would continue to resolve outstanding national security mission support issues on the remaining portions of the tracts so that conveyance or transfer of those portions could occur before the end of the 2007 deadline identified in the Act, which has been extended to November 26, 2022 by the National Defense Authorization Act for Fiscal Year 2011, (Pub. L. 111-383). DOE could include deed restrictions, notices, and similar land use controls, as deemed appropriate and necessary, that are protective of human health and safety to facilitate the transfer of the remaining portions of these tracts.

In 2000, the TA-21 Tract housed both the Tritium Systems Test Assembly (TSTA) and the Tritium Sciences and Fabrication Facility (TSFF), and both of these facilities were scheduled to continue operations past the year 2007. These two research facilities were identified as being needed for the national security mission and there were no formal plans to relocate them at that time. However, NNSA has subsequently discontinued both the TSTA and TSFF operations within TA-21. The TSFF tritium operations have been relocated away from LANL, and all other remaining TA-21 operations have been moved to existing facilities within LANL. All of the TA-21 buildings and structures are now undergoing or have undergone complete decommissioning, decontamination, and demolition. Total site environmental remediation of TA-21 will be undertaken, and is currently scheduled for completion over the next decade.

In the near term, NNSA has determined that the remaining portion of the Airport Tract situated along State Road 502 on the Townsite Mesa top (about 55 acres) that had been retained to serve as a health and safety buffer for the TA-21 operations nearby is no longer required for that purpose. This partial tract can now be conveyed. NNSA has also determined that it will convey the remaining portion of the TA-21 Tract (about 245 acres) situated along DP Road on the DP Mesa top and east into the DP canyon area, as this previously retained portion of the Tract is no longer required for LANL operations. This 245-acre portion of the TA-21 Tract can now be conveyed on a partial-tract-by-partial-tract basis as soon as environmental restoration and remediation actions are completed.

Amended Decisions

NNSA is modifying its decisions on conveyance and transfer of certain land tracts at LANL based upon the conditions to transfer properties as outlined in the Act.

• The Airport Tract, originally consisting of about 205 acres (83 hectares), is located east of the Los Alamos townsite near the East Gate Business Park. The Los Alamos Airport is located on the northern part of the tract. In March 2000, DOE decided to convey or transfer part of the tract, approximately 110 acres along the north side of East Road. Portions of the tract were retained by DOE to sustain mission need and provide a health and safety buffer to support TA-21 activities. With the planned shutdown of portions of its tritium activities at TA-21, NNSA decided to convey an additional 8-acre portion of the Airport Tract in 2002. In 2005, NNSA decided to convey a 32.3-acre portion of the Airport Tract located along the south side of State Road 502 on top of Townsite Mesa. The subsequent closure of the TSTA and TSFF operations at TA-21 and remediation activities at TA-21 removed the mission need and the requirement for a health and safety buffer for the Airport Tract. Therefore, NNSA has now decided to convey the remaining portions of the Airport Tract, about 55 acres to Los Alamos County, in accordance with the requirements of the Act. With this decision, no acreage of the Airport Tract remains to be conveyed.

• The TA-21 Tract, originally consisting of about 260 acres (105 hectares), is located east of the Los Alamos townsite on the eastern end of DP Mesa. In March 2000, DOE decided to convey or transfer part of the tract, approximately 20 acres, located in the northwest section of the TA-21 tract adjacent to the DP Road Tract. Portions of the TA-21 Tract were retained by DOE to sustain mission activities. With the closure of the TSTA and TSFF operations at TA-21 in 2002 and 2006 respectively, and the anticipated completion of the remediation activities at TA-21, DOE no longer has a mission need for this site other than meeting its environmental compliance requirements. NNSA has decided to convey in accordance with the requirements of the Act, the remaining portions, totaling about 245 acres, of the TA-21 Tract. This conveyance will occur on a partial-tract-by-partial-tract basis upon completion of environmental remediation activities. With this decision, the majority of the TA-21 Tract acreage will be conveyed.

Issued in Washington, DC on January 17, 2012.
Thomas P. D'Agostino,
Administrator, National Nuclear Security Administration.

[FR Doc. 2012-1208 Filed 1-20-12; 8:45 am]

BILLING CODE 6450-01-P